DEPARTMENT OF THE INTERIOR

Bureau of Land Management

[CA-180-5700-EU; CACA-43503]

Notice of Realty Action: Non-Competitive Sale of Public Lands, Amador, CA

AGENCY: Bureau of Land Management, Interior.

ACTION: Notice.

SUMMARY: The public lands identified below have been examined and found suitable for disposal pursuant to sections 203 and 209 of the Federal Land Policy and Management Act of October 21, 1976 (90 Stat. 2750-51; 43 U.S.C. 1713, and 90 Stat. 2757-58, 43 U.S.C. 1719), and the Federal Land Transaction Facilitation Act of July 25, 2000 (Pub. L. 106-248), at not less than appraised market value. The market value opinion of the approved appraisal is $5,000. The potential buyer of the parcel will make application under section 209 of the Federal Land Policy and Management Act of October 21, 1976, to purchase the mineral estate along with the surface.

Mount Diablo Meridian

T. 6 N., R. 12 E.,

Sec. 9, Lot 49

containing 1.17 acres more or less.

The purpose of the proposed sale is to dispose of a parcel of public land that is difficult and uneconomic to manage as part of the public lands of the United States. It is also proposed for sale in order to resolve a trespass of Isak Hansen. The proposed sale is consistent with the Folsom Field Office Sierra Planning Area Management Framework Plan (July 1988), and the public interest will be served by offering the parcel for sale. The parcel will be offered for non-competitive sale to Isak Hansen, the adjacent landowner.

Pursuant to the Federal Land Transaction Facilitation Act of July 25, 2000 (Pub. L. 106-248), the proceeds from the sale will be deposited into a Federal Land Disposal Account and used to acquire non-federal land within the State of California. The money will be used to purchase lands for the BLM, National Park Service, Forest Service, or Fish and Wildlife Service.

Conveyance of the available mineral interests would occur simultaneously with the sale of the land. The mineral interests being offered for conveyance have no known mineral value. Acceptance of a direct sale offer will constitute an application for conveyance of those mineral interests. The applicant will be required to pay a $50.00 non-returnable filing fee for conveyance of the available mineral interests.

The patent, when issued, will reserve the following: By Executive Order for Power Site Reserve 416, subject to Section 24 of the Federal Power Act on July 24, 1997. Reservation for ditches and canals

DATES: Until July 7, 2003, interested parties may submit comments pertaining to this action. The lands will not be offered for sale until at least 60 days after the date of publication of this notice in the Federal Register.

ADDRESSES: Written comments concerning the proposed sale should be sent to the Bureau of Land Management, Folsom Field Office, 63 Natoma Street, Folsom, California 95630.

FOR FURTHER INFORMATION CONTACT: Additional information concerning the land sale, including relevant planning and environmental documentation, may be obtained from the Folsom Field Office at the above address. Telephone calls may be directed to Jodi Swaggerty at (916) 985-4474.

SUPPLEMENTARY INFORMATION: Objections to the sale will be reviewed by the State Director, who may sustain, vacate, or modify this realty action. In the absence of any objections, this proposal will become the final determination of the Department of the Interior.

Publication of this notice in the Federal Register will segregate the public lands from appropriations under the public land laws, including the mining laws, pending disposition of this action, or 270 days from the date of publication of this notice, whichever occurs first. Pursuant to the application to convey the mineral estate, the mineral interests of the United States are segregated from appropriation under the public land laws, including the mining laws for a period of two years from the date of filing the application.

Dated: January 17, 2003.
Howard K. Stark,
Chief, Branch of Lands Management.

[FR Doc. 03-12515 Filed 5-19-03; 8:45 am]

BILLING CODE 4310-40-P